FEDERAL ACCOUNTING STANDARDS ADVISORY BOARD

Notice of Meeting Schedule for 2013

AGENCY: Federal Accounting Standards Advisory Board.

ACTION: Notice.

Board Action: Pursuant to 31 U.S.C. 3511(d), the Federal Advisory Committee Act (Pub. L. 92-463), as amended, and the FASAB Rules of Procedure, as amended in October, 2010, notice is hereby given that the Federal Accounting Standards Advisory Board (FASAB) will meet on the following dates in room 7C13 of the US Government Accountability Office (GAO) Building (441 G St., NW) unless otherwise noted:

—Wednesday and Thursday, February 27 and 28, 2013

—Wednesday and Thursday, April 24 and 25, 2013

—Wednesday and Thursday, June 19 and 20, 2013

—Wednesday and Thursday, August 28 and 29, 2013

—Wednesday and Thursday, October 23 and 24, 2013

—Wednesday and Thursday, December 18 and 19, 2013

The purpose of the meetings is to discuss issues related to:

—Reporting Entity

—Property, Plant and Equipment

—Natural Resources

—Risk Assumed

—Leases

—Public Private Partnerships

—Technical Agenda, and

—Any other topics as needed.

Any interested person may attend the meetings as an observer. Board discussion and reviews are open to the public. GAO Building security requires advance notice of your attendance. Please notify FASAB of your planned attendance by calling 202-512-7350 at least one day prior to the respective meeting.

FOR FURTHER INFORMATION CONTACT: Wendy Payne, Executive Director, at (202) 512-7350.

Authority: Federal Advisory Committee Act, Public Law 92-463.

Dated: November 28, 2012.
Charles Jackson,
Federal Register Liaison Officer.

[FR Doc. 2012-29247 Filed 12-3-12; 8:45 am]

BILLING CODE 1610-02-P